DEPARTMENT OF ENERGY

Federal Energy Regulatory Commission

Notice of Effectiveness of Exempt Wholesale Generator Status

| Docket Nos.
FRP Caldwell Solar, LLC | EG25-179-000
DG VDH BESS, LLC | EG25-180-000
Garnet Mesa Solar LLC | EG25-181-000
King Mountain Solar, LLC | EG25-182-000
Kaufman Solar, LLC | EG25-183-000
Funston Solar, LLC | EG25-184-000
Yaupon Solar, LLC | EG25-185-000
Cherrywood Solar I, LLC | EG25-186-000
Yaupon Solar Energy Storage, LLC | EG25-187-000
Crane ProjectCo 1, LLC | EG25-188-000
Crane ProjectCo 2, LLC | EG25-189-000
Crane ProjectCo 3, LLC | EG25-190-000
Crane ProjectCo 4, LLC | EG25-191-000
Crane ProjectCo 5, LLC | EG25-192-000
Crane ProjectCo 6, LLC | EG25-193-000
Crane ProjectCo 7, LLC | EG25-194-000
Crane ProjectCo 8, LLC | EG25-195-000
Mendoza Trail BESS, LLC | EG25-196-000
Headcamp ProjectCo 1, LLC | EG25-197-000
Headcamp ProjectCo 2, LLC | EG25-198-000
Headcamp ProjectCo 3, LLC | EG25-199-000
Headcamp ProjectCo 4, LLC | EG25-200-000
Headcamp ProjectCo 5, LLC | EG25-201-000
Headcamp ProjectCo 6, LLC | EG25-202-000
Momentum Headcamp LLC | EG25-203-000
Pintail Pass BESS LLC | EG25-204-000
Pintail Pass ProjectCo 1, LLC | EG25-205-000
Pintail Pass ProjectCo 2, LLC | EG25-206-000
Pintail Pass ProjectCo 3, LLC | EG25-207-000
Pintail Pass ProjectCo 4, LLC | EG25-208-000
Pintail Pass ProjectCo 5, LLC | EG25-209-000
Pintail Pass ProjectCo 6, LLC | EG25-210-000
Pintail Pass ProjectCo 7, LLC | EG25-211-000
Pintail Pass ProjectCo 8, LLC | EG25-212-000
Roadrunner Solar LLC | EG25-213-000
Roadrunner Battery Storage LLC | EG25-214-000
Roadrunner Solar SF LLC | EG25-215-000
Roadrunner BESS SF LLC | EG25-216-000
Wizard Energy Storage LLC | EG25-217-000
Kingman Wind I, LLC | EG25-218-000
Kingman Wind II, LLC | EG25-219-000
Ninnescah Wind Renewables, LLC | EG25-220-000
Big Sampson Wind Project, LLC | EG25-221-000
I-eye Storage LLC | EG25-222-000
Black Springs BESS LLC | EG25-223-000
Lucky Bluff Bess LLC | EG25-224-000
GAIA Solar, LLC | EG25-225-000
Dodson Creek Solar, LLC | EG25-226-000
NRG Cedar Bayou 5 LLC | EG25-227-000
Wakefield BESS 1 LLC | EG25-228-000
Weld Energy Storage, LLC | EG25-229-000
Appleseed Solar, LLC | EG25-230-000
ORNI 30 LLC | EG25-231-000
VESI 15 LLC | EG25-232-000
SF Azalea, LLC | EG25-233-000
VESI 37 LLC | EG25-234-000
Steele Flats Energy Storage, LLC | EG25-235-000
Northern Divide Energy Storage, LLC | EG25-236-000
Star Light Energy Center, LLC | EG25-237-000
Star Light Energy Center, LLC | EG25-238-000
Dry Lake East Energy Center, LLC | EG25-239-000
Key Energy Storage, LLC | EG25-240-000
Windy Lane Energy Center, LLC | EG25-241-000
Guajillo Energy Storage LLC | EG25-242-000
Padua Grid 2, LLC | EG25-243-000
Padua Grid 3, LLC | EG25-244-000
Valley Farms Energy Center, LLC | EG25-245-000
Wildcat Ranch Energy Storage, LLC | EG25-246-000
Braintree MA BESS 1 LLC | EG25-247-000
Tower Solar, LLC | EG25-248-000
Delta Bobcat Solar, LLC | EG25-249-000
Excelsior Energy Center, LLC | EG25-250-000
Mondu Solar, LLC | EG25-251-000
Century Oaks Energy Storage, LLC | EG25-252-000
Weirs Creek Solar, LLC | EG25-253-000
St. Landry Solar, LLC | EG25-254-000
Greer Solar, LLC | EG25-255-000
Panhandle Solar, LLC | EG25-256-000
Beaver Creek Solar, LLC | EG25-257-000
Singer Solar, LLC | EG25-258-000
Buena Vista Energy Center III, LLC | EG25-259-000
Pediment BESS I LLC | EG25-260-000
Alamo Clean Energy Center, LLC | EG25-261-000
Mesquite Clean Energy Center, LLC | EG25-262-000
Colorado Clean Energy Center, LLC | EG25-263-000
North Pecos Clean Energy Center, LLC | EG25-264-000
Matagorda Clean Energy Center, LLC | EG25-265-000
Fort Stockton Clean Energy Center, LLC | EG25-266-000
South Pecos Clean Energy Center, LLC | EG25-267-000
Columbus Clean Energy Center LLC | EG25-268-000
Badger Clean Energy Center, LLC | EG25-269-000
Andrews North Clean Energy Center, LLC | EG25-270-000
Desert Breeze Solar, LLC | EG25-271-000
Lockhart Solar PV IV, LLC | EG25-272-000
OSCII Gun Hill LLC | EG25-273-000

Take notice that during the month of May 2025, the status of the above-captioned entities as Exempt Wholesale Generators became effective by operation of the Commission's regulations. 18 CFR 366.7(a) (2024).

Dated: June 2, 2025.
Carlos D. Clay,
Deputy Secretary.

[FR Doc. 2025-10357 Filed 6-5-25; 8:45 am]

BILLING CODE 6717-01-P